DEPARTMENT OF ENERGY

Federal Energy Regulatory Commission

Combined Notice of Filings #2

Take notice that the Commission received the following electric corporate filings:

Docket Numbers: EC16-110-000.

Applicants: Fortis Inc., Finn Investment Pte. Ltd., FortisUS Inc., ITC Investment Holdings Inc., Element Acquisition Sub Inc., Enterprise Holdings Pte. Ltd., ITC Holdings Corp.

Description: Joint Application for Authorization for Merger and Disposition of Jurisdictional Transmission Facilities by Fortis Inc., Finn Investment Pte, Ltd., and ITC Holdings Corp., et. al.

Filed Date: 4/28/16.

Accession Number: 20160428-5468.

Comments Due: 5 p.m. ET 5/19/16.

Docket Numbers: EC16-111-000.

Applicants: Comanche Solar PV, LLC.

Description: Application for Authorization under Section 203 of the Federal Power Act and Request for Waivers, Confidential Treatment, Expedited Action and Shortened Comment Period, Comanche Solar PV, LLC.

Filed Date: 4/28/16.

Accession Number: 20160428-5475.

Comments Due: 5 p.m. ET 5/19/16.

Take notice that the Commission received the following electric rate filings:

Docket Numbers: ER15-1308-003.

Applicants: Kingfisher Wind, LLC.

Description: Notice of Non-Material Change in Status of Kingfisher Wind, LLC.

Filed Date: 4/28/16.

Accession Number: 20160428-5470.

Comments Due: 5 p.m. ET 5/19/16.

Docket Numbers: ER16-1533-000.

Applicants: PacifiCorp.

Description: § 205(d) Rate Filing: BPA Non-Conforming PTP Agreements to be effective 4/1/2016.

Filed Date: 4/29/16.

Accession Number: 20160429-5262.

Comments Due: 5 p.m. ET 5/20/16.

Docket Numbers: ER16-1534-000.

Applicants: Midcontinent Independent System Operator, Inc.

Description: § 205(d) Rate Filing: 2016-04-29_Non-Transmission Owner Cost Recovery Filing to be effective 7/1/2016.

Filed Date: 4/29/16.

Accession Number: 20160429-5283.

Comments Due: 5 p.m. ET 5/20/16.

Docket Numbers: ER16-1535-000.

Applicants: Tampa Electric Company.

Description: § 205(d) Rate Filing: Emergency Interchange Service Schedule A&B-2016 (Bundled) to be effective 5/1/2016.

Filed Date: 4/29/16.

Accession Number: 20160429-5309.

Comments Due: 5 p.m. ET 5/20/16.

Docket Numbers: ER16-1536-000.

Applicants: Southwest Power Pool, Inc.

Description: § 205(d) Rate Filing: 3190 Basin Electric and MidAmerican Energy Attachment AO to be effective 4/1/2016.

Filed Date: 4/29/16.

Accession Number: 20160429-5321.

Comments Due: 5 p.m. ET 5/20/16.

Docket Numbers: ER16-1537-000.

Applicants: New England Power Pool Participants Committee.

Description: § 205(d) Rate Filing: May 2016 Membership Filing to be effective 4/1/2016.

Filed Date: 4/29/16.

Accession Number: 20160429-5337.

Comments Due: 5 p.m. ET 5/20/16.

Docket Numbers: ER16-1538-000.

Applicants: Midcontinent Independent System Operator, Inc.

Description: § 205(d) Rate Filing: 2016-04-29_SA 2823 Termination MidAmerican-Ida Grove Wind E&P (J411) to be effective 4/22/2016.

Filed Date: 4/29/16.

Accession Number: 20160429-5338.

Comments Due: 5 p.m. ET 5/20/16.

Docket Numbers: ER16-1539-000.

Applicants: Midcontinent Independent System Operator, Inc.

Description: § 205(d) Rate Filing: 2016-04-29_SA 2822 Termination MidAmerican-Highland Wind E&P (J285) to be effective 4/22/2016.

Filed Date: 4/29/16.

Accession Number: 20160429-5343.

Comments Due: 5 p.m. ET 5/20/16.

Docket Numbers: ER16-1540-000.

Applicants: PacifiCorp.

Description: § 205(d) Rate Filing: BPA Non-Conforming PTP Agreements to be effective 4/1/2016.

Filed Date: 4/29/16.

Accession Number: 20160429-5369.

Comments Due: 5 p.m. ET 5/20/16.

Docket Numbers: ER16-1541-000.

Applicants: California Independent System Operator Corporation.

Description: § 205(d) Rate Filing: 2015-04-29 Rate Schedule No. 83, Idaho Power EIM Implementation Agreement to be effective 7/1/2016.

Filed Date: 4/29/16.

Accession Number: 20160429-5370.

Comments Due: 5 p.m. ET 5/20/16.

Docket Numbers: ER16-1542-000.

Applicants: Public Service Company of Colorado.

Description: § 205(d) Rate Filing: PSCo FSV Const Agrmt NOC-286 to be effective 6/29/2016.

Filed Date: 4/29/16.

Accession Number: 20160429-5373.

Comments Due: 5 p.m. ET 5/20/16.

Docket Numbers: ER16-1543-000.

Applicants: Louisville Gas and Electric Company.

Description: § 205(d) Rate Filing: Schedule 1 Amend Rate Update Date to be effective 5/1/2016.

Filed Date: 4/29/16.

Accession Number: 20160429-5379.

Comments Due: 5 p.m. ET 5/20/16.

Docket Numbers: ER16-1544-000.

Applicants: Southwest Power Pool, Inc.

Description: Compliance filing: Compliance Filing Revising Westar Energy's Formula Rate Template to be effective 8/20/2014.

Filed Date: 4/29/16.

Accession Number: 20160429-5390.

Comments Due: 5 p.m. ET 5/20/16.

Docket Numbers: ER16-1545-000.

Applicants: PJM Interconnection, L.L.C.

Description: Tariff Cancellation: Notice of Cancellation of ISA No. 3045 and ICSA No. 3046, Queue No. Q65 to be effective 6/27/2016.

Filed Date: 4/29/16.

Accession Number: 20160429-5424.

Comments Due: 5 p.m. ET 5/20/16.

Docket Numbers: ER16-1546-000.

Applicants: Southwest Power Pool, Inc.

Description: § 205(d) Rate Filing: Arkansas Electric Cooperative Corporation Formula Rate to be effective 7/1/2016.

Filed Date: 4/29/16.

Accession Number: 20160429-5439.

Comments Due: 5 p.m. ET 5/20/16.

Docket Numbers: ER16-1547-000.

Applicants: PJM Interconnection, L.L.C.

Description: § 205(d) Rate Filing: Amendment to ISAs 1867 & 4128, Queues NQ#117 & NQ#124, per Assignment to be effective 6/1/2015.

Filed Date: 4/29/16.

Accession Number: 20160429-5446.

Comments Due: 5 p.m. ET 5/20/16.

Docket Numbers: ER16-1548-000.

Applicants: California Independent System Operator Corporation.

Description: § 205(d) Rate Filing: 2016-04-29 Mesquite Solar 3 LGIA to be effective 6/1/2016.

Filed Date: 4/29/16.

Accession Number: 20160429-5456.

Comments Due: 5 p.m. ET 5/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2016.
Nathaniel J. Davis, Sr.,
Deputy Secretary.

[FR Doc. 2016-10865 Filed 5-9-16; 8:45 am]

BILLING CODE 6717-01-P